DEPARTMENT OF AGRICULTURE

Forest Service

CARMA (Combined Array for Research in Millimeter-Wave Astronomy) Special Use Permit Authorization

AGENCY: Forest Service, USDA.

ACTION: Notice of intent to prepare an Environmental Impact Statement and to conduct public scoping meetings.

SUMMARY: The Forest Service, USDA, will prepare an environmental impact statement (EIS) to analyze and disclose the environmental impacts of a Special-Use Permit for a proposed project in the Inyo National Forest to operate an array of radio telescopes (antennas). The proposed project is called CARMA (Combined Array for Research in Millimeter-wave Astronomy).

The proposed CARMA array would combine two existing arrays: 6 antennas currently operated by the California Institute of Technology (Caltech) at the existing Owens Valley Radio Observatory (OVRO) site, and 9 antennas at Hat Creek in Shasta County, California, operated by the Berkeley-Illinois-Maryland Association (BIMA). BIMA is comprised of the University of California (Berkeley), the University of Illinois (Urbana-Champaign), and the University of Maryland (College Park). An additional 8 antennas from the University of Chicago, currently under development, are also proposed as part of the CARMA project. The CARMA consortium is a collaboration between Caltech and the BIMA consortium.

CARMA would enhance the United States' capability for research and education in millimeter-wave astronomy by using a combined array at an altitude approximately 4,000 feet higher than that at the OVRO facility. The increased altitude minimizes the adverse effects of atmospheric water vapor on astronomical observations. The proposed site for the project is an unnamed flat, which will be refered to as Juniper Flat, that is at an altitude of 7,800-7,900 feetin the Inyo Mountains, northeast from Big Pine, California. Two additional sites in the Inyo Mountains (Cedar Flat and Lower Harkless Flat) within the Inyo National Forest have also been analyzed by the proponent.

The purpose of the EIS will be to develop and evaluate a range of alternatives, including a No Action alternative and possible additional alternatives, to respond to issues identified during the scoping process. The decision on the proposed project by the Responsible Official will be in compliance with the direction in the Inyo National Forest Land and Resource Management Plans (1988), as amended by the Sierra Nevada Forest Plan Amendment, Record of Decision 2001, which provides the overall guidance for management of the area.

A joint EIS-EIR document is being prepared for compliance with the California Environmental Quality Act (CEQA), in coordination with the University of California (UC). UC will be carrying out the procedures under CEQA necessary to process the document as an EIR. Public meetings, hearings, and comment opportunities will be coordinated. For example, the scoping meeting described below will serve as the CEQA scoping meeting, and all comments submitted to the USFS contact person below will be addressed by UC in the CEQA process.

DATES: Two Public Scoping Meetings will be held to discuss the proposed action and the EIS process. On Monday June 3, 2002, a meeting will be held at the Parish Hall of Our Lady of Perpetual Help Catholic Church, 849 Home St., Bishop, California from 6:30 to 9 p.m. On Tuesday, June 4, 2002 a meeting will be held at the Mammoth Room at the Shilo Inn, 2963 Main Street, Mammoth Lakes, California from 6:30 to 9 p.m. The public is asked to submit comments on the proposed action postmarked by June 21, 2002.

ADDRESSES: Send written comments to: Colleen (Chaz) O'Brien, IDT Leader, USDA Forest Service, Inyo National Forest, 873 North Main Street, Bishop, CA 93514.

FOR FURTHER INFORMATION CONTACT: Colleen (Chaz) O'Brien, IDT Leader, Inyo National Forest, at the address listed above. The phone number is (760) 873-2490.

SUPPLEMENTARY INFORMATION:

Background

This action is proposed in response to an application submitted by Caltech. The CARMA Project has been under predevelopment review by the Forest Service since 1999. Initially, the project proponent had identified Upper Harkless Flat (UHF) as the proposed site. In response to public comments expressing concern about the UHF site and requesting that an alternative site be identified, the applicant removed the UHF site from consideration and proposed the Juniper Flat site. A special-use permit application for the Juniper Flat site was submitted in October of 2001.

The proposed site is located in Management Prescription #18 within Inyo National Forest Management Area #13 and is designated as a Multiple Resource Area. The proposed rule will be consistent with the management direction for Multiple Resource Area in the Land and Resource Management Plan for Inyo National forest. The EIS/EIR and any permit terms and conditions that may be contemplated for the Proposed Action will comprehensively address applicable standards and guidelines in the Land and Resource Management Plan.

Proposed Action

The INF is not in the business of identifying or controlling the best procedures for developing and managing research in millimeter wave astronomy. The Proposed Action that is being contemplated is whether to grant a special-use permit for the use of Forest land for the CARMA proposal, based on the National Forest plans and policies and considering the potential environmental impacts of the proposed action, other action alternatives, and a no action alternative. Depending upon the alternative selected, the Responsible official will also decide if a non-significant amendment is necessary. Preliminary analysis indicates that a non-significant amendment may be necessary to meet Visual Quality Objectives (VQO's).

The CARMA proposal consists of a millimeter-wave radio telescope array of 23 antennas of three different sizes: six 10.4 meter diameter antennas relocated from the OVRO facility; nine 6.1 meter diameter antennas relocated from the BIMA observatory at Hat Creek, CA; and, eight 3.5 meter diameter antennas from the University of Chicago.

The 23 movable antennas would be placed on the stations in various patterns depending on the research project; the eight 3.5 meter diameter antennas from the University of Chicago will remain on the central pad. All of the antennas would be relocated to the site from the OVRO facility and repositioned on the site by a road-capable special purpose transporter.

The antenna array would be positioned within a area of approximately 800 acres. The proposed project would require the disturbance and development of approximately 30.5 acres including a central complex, outlying antenna stations, site access improvements, and a repeater station. The proposed central complex includes: A 250-foot-by-250-foot concrete center pad area with 17 antenna stations; a 7,000-square-foot control building (including overnight accommodations for two astronomers); a 2,000-square-foot workshop; and a 600-kVA diesel electric-power generating facility. The proposed outlying antenna stations are comprised of 37 concrete antenna pads (each sized 20-feet-by-20-feet and 18-inches thick), interconnected by dirt roads and underground cables. Proposed site access improvement includes modification of 3.6 miles of existing dirt road. The proposed repeater station is comprised of a 20 by 40 foot site located approximately 3 miles northwest of Juniper Flat.

Scoping

Alternatives to the proposed action will be developed in response to issues identified during scoping. Issues that have been identified to date include potential effects on the following: visual quality, flora and fauna, heritage resources, geology and soils, recreation, traffic and air quality. The scoping process will include the following: identification and clarification of issues; identification of significant issues; exploration and development of additional alternatives; and identification of potential environmental effects of the Proposed Action and alternatives.

Coordination With Other Agencies

In preparation of the EIS, the Forest Service will consult, at a minimum, with the University of California (a member of the CARMA consortium, and the State of California Lead Agency under the California Environmental Quality Act—a joint EIS/EIR document will be prepared); Native American tribes (Big Pine Paiute, Bishop Paiute, Fort Independence Reservation, Lone Pine Paiute-Shoshone, and Timbisha Shoshone); the State of California Lahontan Regional Water Quality Control Board; Department of Fish and Game; US Fish and wildlife; Historic Preservation Officer; the U.S. Army Corp of Engineers; the California Department of Transportation; the Inyo County Public Works Department; the Inyo County Health & Human Services Department; and the Great Basin Unified Air Pollution Control District.

Commenting

Comments received in response to this invitation to participate in public scoping or any future solicitation for public comments on a draft EIS, including names and addresses of those who comment, will be considered part of the public record and will be available for public inspection. Additionally, pursuant to 7 CFR 1.27(d), any person may request the agency to withhold a submission from the public record by showing how the Freedom of Information Act (FOIA) permits such confidentiality. Person requesting such confidentiality should be aware that under the FOIA, confidentiality may be granted on only very limited circumstances, such as to protect trade secrets. The Forest Service will inform the requester of the agency's decision regarding the request for confidentiality, and where the request is denied, the agency will return the submission and notify the requester that the comments may be resubmitted with or without name and address.

The draft EIS is expected to be filed with the Environmental Protection Agency (EPA) and to be available for review in July-August, 2002. At that time, copies of the draft EIS will be distributed to interested and affected agencies, organizations, Tribes and members of the public for their review and comment. The comment period on the draft EIS will be 45 days from the date the EPA notice appears in the Federal Register.

The Forest Service believes that, at this early stage, it is very important to give reviewers notice of several court rulings related to public participation in the environmental review process. First, reviewers of a draft EIS must structure their participation in the environmental review of the proposal so that it is meaningful and alerts the agency to the reviewer's position and contentions. Vermont Yankee Nuclear Power Corp. v. NRDC, 435 U.S. 519, 553 (1978). Also, environmental objections that could be raised at the draft EIS stage, but that are not raised until after completion of the final EIS, may be waived or dismissed by the courts. City of Angoon v. Hodel, 803 F.2d 1016, 1022 (9th Cir, 1986) and Wisconsin Heritages, Inc. v. Harris, 490 F. Supp. 1334, 1338 (E.D. Wis. 1980). Because of these court rulings, it is very important that persons interested in this proposed action participate by the close of the 45 days comment period so that substantive comments and objections are made available to the Forest Service at a time when it can meaningfully consider them and respond to them in the Final EIS.

To assist the Forest Service in identifying and considering issues and concerns on the proposed action, comments on the draft environmental impact statement should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 is addressing these points.

The final EIS is scheduled to be available by November-December 2002. In the final EIS, the Forest Service is required to respond to comments and responses received during the comment period for the draft EIS. The Responsible Official is Jeffrey Bailey, Inyo National Forest Supervisor. He will decide whether to issue a Special-Use Permit for the project as described above and under what terms and conditions, or to meet the Purpose and Need for action through some other combination of management actions, or to defer any action at this time. His decision and rationale for the decision will be documented in the record of decision, which will be subject to Forest Service Appeal Regulations (36 CFR Part 215).

Dated: May 1, 2002.
Jeffrey E. Bailey,
Forest Supervisor.

[FR Doc. 02-11353 Filed 5-7-02; 8:45 am]

BILLING CODE 3410-11-M